DEPARTMENT OF HEALTH AND HUMAN SERVICES

Administration for Children and Families

Proposed Information Collection Activity; Comment Request; Proposed Projects

Title: Head Start Impact Study.

OMB No.: New Collection.

Description: The Administration on Children, Youth and Families (ACYF), Administration for Children and Families (ACF) of the Department of Health and Human Services (DHHS) is requesting comments on plans to conduct the Head Start Impact Study. This study is being conducted under contract with Westat, Inc. (with the Urban Institute, American Institutes for Research, and Decision Information Resources as their subcontractors) (#282-00-0022) to collect information for determining, on a national basis, how Head Start affects the school readiness of children participating in the program as compared to children not enrolled in Head Start and to determine under which conditions Head Start works best and for which children.

The Head Start Impact Study is a longitudinal study that will involve approximately 5,000-6,000 first time enrolled three- and four-year old preschool children across an estimated 75 nationally representative grantee/delegate agencies (in communities where there are more eligible children and families than can be served by the program). The participating children will be randomly assigned to either a Head Start group (that receives Head Start program services) or a comparison group (that does not receive Head Start services but may enroll in other available services selected by their parents or be cared for at home). Data collection for the study will begin in fall 2002 and extend through spring 2006 with child assessments, conducted in the fall and spring of the Head Start years and in the spring of the kindergarten and first grade years and parent interviews conducted in the fall and spring of each year. Interviews/surveys with program staff/care providers, and quality of care assessments will be conducted each year. This schedule of data collection is necessitated by the mandate in Head Start's 1998 reauthorization (Coats Human Services Amendments of 1998, PL 05-285) that DHHS conduct research to determine, on a national level, the impact of Head Start on the children it serves. A field test of instruments and procedures is being conducted during fall 2001 and spring 2002. The field test involves approximately 450 first time enrolled three- and four-year old preschool children across eight grantee/delegate agencies representing different community contexts.

Respondents: Individuals or Households, Head Start Agencies, School Districts, and other Child Care Providers.

Annual Burden Estimates

Estimated Response Burden for Respondents to the Head Start Impact Study—Fall 2002, Spring 2003, Fall 2003, Spring 2004, Fall 2004, Spring 2005, Fall 2005, and Spring 2006.

Instrument | Number of respondents | Number of responses per respondent | Average burden hours per response | Total burden hours
Year 1 (fall 2002):
Parent Interviews | 5,111 | 1 | 1.00 | 5,111
Child Assessments | 5,111 | 1 | 0.9166 | 4,685
Teacher Ratings | 613 | 5 | 0.0833 | 255
Center Directors/Principals | 307 | 1 | 1.00 | 307
Classroom Teachers | 613 | 1 | 0.50 | 307
Year 1 (spring 2003):
Parent Interviews | 4,599 | 1 | 1.00 | 4,599
Father Questionnaire | 4,599 | 1 | 0.50 | 2,300
Child Assessments | 4,599 | 1 | 0.9166 | 4,216
Teacher Ratings | 803 | 5 | 0.0833 | 8335
Teacher Ratings | 966 | 5 | 0.0833 | 403
Family Service Workers | 368 | 1 | 0.50 | 184
Education Coordinators | 368 | 1 | 0.50 | 184
Center Directors/Principals | 368 | 1 | 1.00 | 368
Classroom Teachers | 736 | 1 | 0.50 | 368
Other Care Providers | 230 | 1 | 0.50 | 115
Year 2 (fall 2003):
Parent Interviews | 4,139 | 1 | 1.00 | 4,139
Child Assessments | 2,287 | 1 | 0.9166 | 2,096
Year 2 (spring 2004):
Parent Interviews | 3,910 | 1 | 1.00 | 3,910
Child Assessments | 3,910 | 1 | 0.9166 | 3,584
Teacher Ratings | 803 | 5 | 0.833 | 335
Family Service Workers | 165 | 1 | 0.50 | 83
Education Coordinators | 165 | 1 | 0.50 | 83
Center Directors/Principals | 350 | 1 | 1.00 | 350
Classroom Teachers | 700 | 1 | 0.50 | 350
Other Care Providers | 103 | 1 | 0.50 | 52
Year 3 (fall 2004):
Parent Interviews | 3,519 | 1 | 1.00 | 3,519
Year 3 (spring 2005):
Parent Interviews | 3,519 | 1 | 1.00 | 3,519
Child Assessments | 3,519 | 1 | 0.9166 | 3,226
Teacher Ratings | 704 | 5 | 0.0833 | 293
Principals | 352 | 1 | 1.00 | 352
Classroom Teachers | 704 | 1 | 0.50 | 352
Year 4 (fall 2005):
Parent Interviews | 1,667 | 1 | 1.00 | 1,667
Year (spring 2006):
Parent Interviews | 1,667 | 1 | 1.00 | 1,667
Child Assessments | 1.667 | 1 | 0.9166 | 1,528
Teacher Ratings | 333 | 5 | 0.833 | 139
Principals | 167 | 1 | 1.00 | 167
Classroom Teachers | 333 | 1 | 0.50 | 167
Annualized Totals:
Year 1 |  |  |  | 23,402
Year 2 |  |  |  | 14,982
Year 3 |  |  |  | 11,261
Year 4 |  |  |  | 5,335
Estimated Total Annual Burden Hours |  |  |  | 13,745

Note: The 13,745 Total Annual Burden Hours is based on an average of 2002-03, 2003-04, 2004-05, and 2005-06 estimated burden hours.

In compliance with the requirements of section 3506(c)(2)(A) of the Paperwork Reduction Act of 1995, the Administration for Children and Families, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: April 29, 2002.
Bob Sargis,
Reports Clearance Officer.

[FR Doc. 02-10952 Filed 5-1-02; 8:45 am]

BILLING CODE 4184-01-M